DEPARTMENT OF LABOR

Employment and Training Administration

[TA-W-59,756]

Volex, Inc., Power Cord Products Division, Clinton, AR; Notice of Negative Determination Regarding Application for Reconsideration

By application of September 14, 2006, a company official requested administrative reconsideration of the Department's negative determination regarding eligibility to apply for Trade Adjustment Assistance (TAA), applicable to workers and former workers of the subject firm. The denial notice was signed on August 22, 2006, and published in the Federal Register on October 2, 2006 (71 FR 58012).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Volex, Inc., Power Cord Products Division, Clinton, Arkansas engaged in production of insulated flexible wire and cable for power cords was denied because the “contributed importantly” group eligibility requirement of Section 222 of the Trade Act of 1974, as amended, was not met, nor was there a shift in production from that firm to a foreign country. The “contributed importantly” test is generally demonstrated through a survey of the workers' firm's declining domestic customers. The survey was not conducted, because the investigation revealed that the subject firm produced insulated flexible wire and cable primarily for the export market and no domestic customers were available. The subject firm did not import insulated flexible wire and cable in the relevant period, nor did it shift production to a foreign country.

The petitioner provided additional information in the request for reconsideration and supplied a name of a domestic customer which is allegedly purchasing imported products.

The Department conducted a survey of this customer regarding purchases of insulated flexible wire and cable in 2004, 2005 and January through August of 2006. The survey revealed no purchases of imports of insulated flexible wire and cable during the relevant time period.

Conclusion

After review of the application and investigative findings, I conclude that there has been no error or misinterpretation of the law or of the facts which would justify reconsideration of the Department of Labor's prior decision. Accordingly, the application is denied.

Signed at Washington, DC, this 2nd of November, 2006.
Elliott S. Kushner,
Certifying Officer, Division of Trade Adjustment Assistance.

[FR Doc. E6-19338 Filed 11-15-06; 8:45 am]

BILLING CODE 4510-30-P